FEDERAL COMMUNICATIONS COMMISSION

47 CFR Part 73

[DA 01-1388; MM Docket No.01-120, RM-10126]

Radio Broadcasting Services; Lincoln, Sherman, Illinois

AGENCY: Federal Communications Commission.

ACTION: Proposed rule.

SUMMARY: The Commission requests comments on a petition for rule making filed by Saga Communications of Illinois, Inc., requesting the reallotment of Channel 230B1 from Lincoln to Sherman, Illinois, as the community's first local aural transmission service. Petitioner is asked to provide additional information in support of the requested reallotment, specifically the relative population gains and losses. Channel 230B1 can be allotted at Sherman with a site restriction of 13 kilometers (8.1 miles) north of the community. Coordinates for Channel 230B1 at Sherman, Illinois are 40-00-09 NL and 89-39-35 WL.

DATES: Comments must be filed on or before July 30, 2001, and reply comments on or before August 14, 2001.

ADDRESSES: Secretary, Federal Communications Commission, Washington, DC 20554. In addition to filing comments with the FCC, interested parties should serve the petitioner, as follows: Gary S. Smithwick, Smithwick and Belendiuk, 5028 Wisconsin Ave., NW., Suite 301,Washington, DC 20016.

FOR FURTHER INFORMATION CONTACT: Victoria M. McCauley, Mass Media Bureau, and (202) 418-2180.

SUPPLEMENTARY INFORMATION: This is a synopsis of the Commission's Notice of Proposed Rule Making, MM Docket No. 01-120 adopted May 30, 2001 and released June 8, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by removing Lincoln, Channel 230B1 and adding Sherman, Channel 230B1.

Federal Communications Commission.
John A. Karousos,
Chief, Allocations Branch, Policy and Rules Division, Mass Media Bureau.

[FR Doc. 01-15783 Filed 6-22-01; 8:45 am]

BILLING CODE 6712-01-U